FEDERAL RESERVE SYSTEM

Change in Bank Control Notices; Acquisition of Shares of Bank or Bank Holding Companies; Correction

This notice corrects a notice (FR Doc. 02-25215) published on page 62246 of the issue for October 4, 2002.

Under the Federal Reserve Bank of Minneapolis heading, the entry for Robert B. Whitlock, Minneapolis, Minnesota, is revised to read as follows:

A. Federal Reserve Bank of Minneapolis (Julie Stackhouse, Vice President) 90 Hennepin Avenue, Minneapolis, Minnesota 55480-0291:

1. Robert B. Whitlock, Minneapolis, Minnesota, and Marie Gillespie, LaGrange Park, Illinois; as trustees; to acquire voting shares of Lake Bank Shares, Inc., Employee Stock Ownership Plan, Emmons, Minnesota, and thereby indirectly control Lake Bank Shares, Inc., Emmons, Minnesota and its subsidiaries, Security Bank of Minnesota, Albert Lea, Minnesota, and First State Bank of Emmons, Emmons, Minnesota.

In connection with this application Jonathon H. Berg, M.D., Northwood, North Dakota, has applied to become a trustee of the Herbert A. Lund Revocable Trust, and thereby indirectly acquire voting shares of Lake Bank Shares, Inc.

Comments on this application must be received by October 21, 2002.

Board of Governors of the Federal Reserve System, October 8, 2002.
Robert deV. Frierson,
Deputy Secretary of the Board.

[FR Doc. 02-26061 Filed 10-11-02; 8:45 am]

BILLING CODE 6210-01-S